DEPARTMENT OF TRANSPORTATION

Federal Aviation Administration

14 CFR Part 39

[Docket No. FAA-2008-0980; Directorate Identifier 2008-NM-008-AD]

RIN 2120-AA64

Airworthiness Directives; Airbus Model A330 Airplanes, and Model A340-200 and A340-300 Series Airplanes

AGENCY: Federal Aviation Administration (FAA), Department of Transportation (DOT).

ACTION: Notice of proposed rulemaking (NPRM).

SUMMARY: The FAA proposes to supersede an existing airworthiness directive (AD) that applies to certain Airbus Model A330, A340-200, and A340-300 series airplanes. The existing AD currently requires repetitive inspections of a certain bracket that attaches the flight deck instrument panel to the airplane structure; related investigative and corrective actions if necessary; and replacement of the existing bracket with a titanium-reinforced bracket, which ends the repetitive inspections in the existing AD. This proposed AD would add requirements only for airplanes on which the existing bracket was replaced with a titanium-reinforced bracket in accordance with the existing AD. The additional requirement is a one-time inspection to determine if certain fasteners are broken or cracked, and corrective actions if necessary. This proposed AD results from a report that incorrect torque values could damage the bracket. We are proposing this AD to prevent a cracked bracket. Failure of this bracket, combined with failure of the horizontal beam, could result in collapse of the left part of the flight deck instrument panel, and consequent reduced controllability of the airplane.

DATES: We must receive comments on this proposed AD by October 17, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2008-0980; Directorate Identifier 2008-NM-008-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 21, 2006, we issued AD 2006-26-12, amendment 39-14870 (72 FR 256, January 4, 2007), for certain Airbus Model A330, A340-200, and A340-300 series airplanes. That AD superseded AD 2005-06-08, amendment 39-14016 (70 FR 13345, March 21, 2005) and requires repetitive inspections of a certain bracket that attaches the flight deck instrument panel to the airplane structure; replacement of the bracket with a new, improved bracket; and related investigative and corrective actions if necessary. That AD further requires replacement of the existing bracket with a titanium-reinforced bracket, which would end the repetitive inspections. AD 2006-26-12 resulted from a report of cracking damage found on certain brackets that were replaced per the requirements of AD 2005-06-08. We issued AD 2006-26-12 to prevent a cracked bracket. Failure of this bracket, combined with failure of the horizontal beam, could result in collapse of the left part of the flight deck instrument panel, and consequent reduced controllability of the airplane.

Actions Since Existing AD Was Issued

Since we issued AD 2006-26-12, we have received a report that incorrect torque values could damage the bracket. These incorrect torque values were included in Airbus Service Bulletins A330-25-3249 and A340-25-4245, both dated May 3, 2005. We referred to those service bulletins in AD 2006-26-12 as the appropriate sources of service information for replacing the existing bracket with a titanium-reinforced bracket. Airbus has now revised these service bulletins (both Revision 01, both dated July 10, 2007) to include the correct torque values.

The European Aviation Safety Agency (EASA) mandated the service information and issued EASA airworthiness directives 2007-0281 and 2007-0282, both dated November 6, 2007, to ensure the continued airworthiness of these airplanes in the European Union.

Relevant Service Information

As stated above, Airbus has issued Mandatory Service Bulletins A330-25-3249 and A340-25-4245, both Revision 01, and both dated July 10, 2007. The procedures in Revision 01 of the service bulletins are essentially the same as the procedures in the original issue. However, Revision 01 of the service bulletins specifies new procedures for airplanes on which the bracket has been replaced in accordance with the procedures specified in the original issue. The new procedures are removing the fasteners of the titanium-reinforced bracket and, if a fastener is broken, doing a detailed inspection for cracking of the horizontal beam. If any crack is found, the service bulletins specify the corrective action of contacting Airbus for repair procedures. If no crack is found, the service bulletins specify the corrective action of installing new fasteners on the bracket.

FAA's Determination and Requirements of the Proposed AD

These airplanes are manufactured in France and are type certificated for operation in the United States under the provisions of section 21.29 of the Federal Aviation Regulations (14 CFR 21.29) and the applicable bilateral airworthiness agreement. Pursuant to this bilateral airworthiness agreement, the EASA has kept the FAA informed of the situation described above. We have examined the EASA's findings, evaluated all pertinent information, and determined that AD action is necessary for airplanes of this type design that are certificated for operation in the United States.

This proposed AD would supersede AD 2006-26-12 and would retain the requirements of the existing AD. This proposed AD would also require accomplishing the actions specified in Airbus Mandatory Service Bulletins A330-25-3249 and A340-25-4245, both Revision 01, and both dated July 10, 2007, as discussed under “Difference Between the Proposed AD and the EASA Airworthiness Directives.”

Difference Between the Proposed AD and the EASA Airworthiness Directives

The EASA airworthiness directives specify contacting Airbus for instructions on how to repair certain conditions. This proposed AD requires repairing those conditions using a method that we or the EASA approve. In light of the type of repair that would be required to address the unsafe condition, and consistent with existing bilateral airworthiness agreements, we have determined that, for this proposed AD, a repair we or the EASA (or its delegated agent) approve would be acceptable for compliance with this proposed AD.

Costs of Compliance

The following table provides the estimated costs for U.S. operators to comply with this proposed AD. This proposed AD would affect about 24 Model A330 series airplanes of U.S. registry. There are currently no affected Model A340-200 and -300 series airplanes of U.S. registry. However, if one of these airplanes is imported and put on the U.S. Register in the future, these cost estimates would also apply to those airplanes.

Estimated Costs
Action | Work hours | Average labor rate per hour | Parts | Cost per airplane | Fleet cost
Inspections (required by AD 2006-26-12) | 1 | $80 | $0 | $80, per inspection cycle | $1,920, per inspection cycle.
Replacement and investigative actions (required by AD 2006-26-12) | 9 | 80 | 330 | $1,050 | $25,200.
One-time inspection (new proposed action) | 2 | 80 | 0 | $160 | Up to $3,840.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14870 (72 FR 256, January 4, 2007) and adding the following new airworthiness directive (AD):

Airbus: Docket No. FAA-2008-0980; Directorate Identifier 2008-NM-008-AD.

Comments Due Date

(a) The FAA must receive comments on this AD action by October 17, 2008.

Affected ADs

(b) This AD supersedes AD 2006-26-12.

Applicability

(c) This AD applies to all Airbus Model A330 airplanes, and Model A340-200 and A340-300 series airplanes; certificated in any category; except those airplanes identified in paragraphs (c)(1), (c)(2) and (c)(3) of this AD.

(1) Model A330 airplanes, and Model A340-200, and A340-300 series airplanes on which Airbus Modification 53446 has been incorporated in production.

(2) Model A330 airplanes on which Airbus Service Bulletin A330-25-3249, Revision 01, dated July 10, 2007, has been embodied in service.

(3) Model A340-200 and -300 series airplanes on which Airbus Service Bulletin A340-25-4245, Revision 01, dated July 10, 2007, has been embodied in service.

Unsafe Condition

(d) This AD results from a report that incorrect torque values could damage a certain bracket that attaches the flight deck instrument panel to the airplane structure. We are issuing this AD to prevent a cracked bracket. Failure of this bracket, combined with failure of the horizontal beam, could result in collapse of the left part of the flight deck instrument panel, and consequent reduced controllability of the airplane.

Compliance

(e) You are responsible for having the actions required by this AD performed within the compliance times specified, unless the actions have already been done.

Service Bulletin Reference

(f) The term “service bulletin,” as used in this AD, means the Accomplishment Instructions of the service bulletins identified in paragraphs (f)(1), (f)(2), and (f)(3) of this AD, as applicable.

(1) For the requirements of paragraphs (g), (h), and (i) of this AD: Airbus Service Bulletins A330-25-3227 and A340-25-4230, both Revision 01, both dated May 3, 2005. Accomplishment before February 8, 2007 (the effective date of AD 2006-26-12) of Airbus Service Bulletins A330-25-3227 and A340-25-4230, both including Appendix 01, both dated June 17, 2004, as applicable, is an acceptable means of compliance for paragraphs (g), (h), and (i) of this AD.

(2) For the requirements of paragraph (k) of this AD done before the effective date of this AD: Airbus Service Bulletins A330-25-3249 and A340-25-4245, both dated May 3, 2005, as applicable.

(3) For the requirements of paragraph (k) of this AD done after the effective date of this AD, and for the requirements of paragraph (l) of this AD: Airbus Mandatory Service Bulletins A330-25-3249 and A340-25-4245, both Revision 01, both dated July 10, 2007, as applicable.

Restatement of the Requirements of AD 2006-26-12

Initial Inspection

(g) At the applicable time specified in paragraph (g)(1) or (g)(2) of this AD, perform a detailed inspection of the bracket having part number (P/N) F2511012920000, which attaches the flight deck instrument panel to airplane structure, in accordance with the applicable service bulletin.

(1) For Model A330 series airplanes: Prior to the accumulation of 16,500 total flight cycles, or within 60 days after April 25, 2005 (the effective date of AD 2005-06-08, amendment 39-14016, which was superseded by AD 2006-26-12), whichever is later.

(2) For Model A340-200 and -300 series airplanes: Prior to the accumulation of 9,700 total flight cycles, or within 2,700 flight cycles after April 25, 2005, whichever is later.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

No Cracking/Repetitive Inspections

(h) If no crack is found during the initial inspection required by paragraph (g) of this AD: Repeat the inspection thereafter at the applicable interval specified in paragraph (h)(1) or (h)(2) of this AD, until the replacement specified in paragraph (k) of this AD has been accomplished.

(1) For Model A330 series airplanes: Intervals not to exceed 13,800 flight cycles.

(2) For Model A340-200 and -300 series airplanes: Intervals not to exceed 7,000 flight cycles.

Crack Found/Replacement and Repetitive Inspections

(i) If any crack is found during any inspection required by paragraph (g) or (h) of this AD: Do the actions in paragraphs (i)(1) and (i)(2) of this AD, except as provided by paragraph (j) of this AD, until accomplishment of the replacement required by paragraph (k) of this AD.

(1) Before further flight: Replace the cracked bracket with a new, improved bracket having P/N F2511012920095, in accordance with the service bulletin.

(2) Repeat the inspection of the replaced bracket as required by paragraph (g) of this AD, at the time specified in paragraph (i)(2)(i) or (i)(2)(ii) of this AD. Then, do repetitive inspections or replace the bracket as specified in paragraph (h) or (i) of this AD, as applicable.

(i) For Model A330 series airplanes: Within 16,500 flight cycles after replacing the bracket.

(ii) For Model A340-200 and -300 series airplanes: Within 9,700 flight cycles after replacing the bracket.

(j) If both flanges of a bracket are found broken during any inspection required by this AD: Before further flight, replace the bracket as specified in paragraph (i) of this AD and perform any applicable related investigative and corrective actions (which may include inspections for damage to surrounding structure caused by the broken bracket, and corrective actions for any damage that is found), in accordance with a method approved by the Manager, International Branch, ANM-116, Transport Airplane Directorate, FAA; or the European Aviation Safety Agency (EASA) (or its delegated agent).

Replacement of Brackets/Investigative and Corrective Actions

(k) Except as required by paragraph (i)(1) of this AD: Within 72 months after February 8, 2007 (the effective date of AD 2006-26-12), replace existing brackets having P/N F2511012920000 or P/N F2511012920095 with titanium-reinforced brackets having P/N F2511305220096; and perform any related investigative and corrective actions (which may include detailed inspections for cracking of the bracket or damage to surrounding structure caused by a broken bracket, and applicable corrective actions for any damage that is found); in accordance with the applicable service bulletin. If any crack is found, before further flight, repair in accordance with the applicable service bulletin. Replacement of the affected bracket with a titanium-reinforced bracket having P/N F2511305220096 ends the repetitive inspections required by paragraph (h) or (i) of this AD. Although the service bulletins specify to submit certain information to the manufacturer, this AD does not include that requirement.

New Requirements of This AD

One-Time Inspection

(l) For airplanes on which the actions required by paragraph (k) of this AD have been accomplished before the effective date of this AD: At the applicable time in paragraph (l)(1) or (l)(2) of this AD, remove the fasteners of the titanium-reinforced bracket and, if a fastener is broken, do a detailed inspection for cracking of the horizontal beam. Do all applicable corrective actions before further flight. Do all actions in accordance with the applicable service bulletin. Where the applicable service bulletin specifies to contact Airbus, before further flight, repair in accordance with a method approved by the Manager, International Branch, ANM-116, Transport Airplane Directorate, FAA; or the EASA (or its delegated agent).

(1) For Model A330 series airplanes: Prior to the accumulation of 16,500 total flight cycles, or within 20 months after the effective date of this AD, whichever occurs first.

(2) For Model A340-200 and -300 series airplanes: Prior to the accumulation of 12,400 total flight cycles, or within 20 months after the effective date of this AD, whichever occurs first.

Alternative Methods of Compliance (AMOCs)

(m)(1) The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

(2) AMOCs approved previously in accordance with AD 2006-26-12 are approved as AMOCs for the corresponding provisions of this AD.

Related Information

(n) EASA airworthiness directives 2007-0281 and 2007-0282, both dated November 6, 2007, also address the subject of this AD.

Issued in Renton, Washington, on September 9, 2008.
Michael J. Kaszycki,
Acting Manager, Transport Airplane Directorate, Aircraft Certification Service.

[FR Doc. E8-21727 Filed 9-16-08; 8:45 am]

BILLING CODE 4910-13-P